DEPARTMENT OF HOMELAND SECURITY

Coast Guard

33 CFR Part 100

[Docket No. USCG-2022-0122]

RIN 1625-AA08

Special Local Regulation; Nanticoke River, Sharptown, MD

AGENCY: Coast Guard, DHS.

ACTION: Notice of proposed rulemaking; withdrawal.

SUMMARY: The Coast Guard is withdrawing its proposed rule to establish temporary special local regulations for certain waters of the Nanticoke River. The rulemaking was initiated to establish a special local regulation during the “Sharptown Regatta,” a marine event to be held on certain waters of the Nanticoke River at Sharptown, MD. The proposed rule is being withdrawn because it is no longer necessary. The event sponsor will no longer be conducting the power boat racing event.

DATES: The Coast Guard is withdrawing the proposed rule for the event scheduled from noon to 5 p.m. on May 13, 2022, from 10 a.m. to 5 p.m. on May 14, 2022, and from 10 a.m. to 5 p.m. on May 15, 2022, and published on March 14, 2022, (87 FR 14193) as of April 27, 2022.

ADDRESSES: To view the docket for this withdrawn rulemaking, go to https://www.regulations.gov, type USCG-2022-0122 in the “SEARCH” box and click “SEARCH.” Click on Open Docket Folder on the line associated with this rule.

FOR FURTHER INFORMATION CONTACT: If you have questions about this notice, call or email Mr. Ron Houck, Waterways Management Division, U.S. Coast Guard Sector Maryland-National Capital Region; telephone 410-576- 2674, email Ronald.L.Houck@uscg.mil.

SUPPLEMENTARY INFORMATION:

Background Information and Regulatory History

On March 14, 2022, we published an NPRM entitled “Special Local Regulation; Nanticoke River, Sharptown, MD” in the Federal Register (87 FR 14193). The Coast Guard proposed to establish a temporary special local regulation for certain navigable waters of the Nanticoke River from 11 a.m. on May 13, 2022, through 6 p.m. on May 15, 2022. This action was necessary to provide for the safety of life on these waters during a power boat racing event on May 14, 2022, and May 15, 2022, as well as pre-race practice on May 13, 2022. This rulemaking would have prohibited persons and vessels from entering the regulated area unless authorized by the Captain of the Port Maryland-National Capital Region or the Coast Guard Event Patrol Commander.

Withdrawal

The proposed rule is being withdrawn due to the regulated area no longer being necessary because the event sponsor will no longer be conducting the power boat racing event.

Authority

We issue this notice of withdrawal under the authority of 46 U.S.C. 70041.

Dated: April 21, 2022.
James R. Bendle,
Commander, U.S. Coast Guard, Acting Captain of the Port Maryland-National Capital Region.

[FR Doc. 2022-08905 Filed 4-26-22; 8:45 am]

BILLING CODE 9110-04-P